DEPARTMENT OF THE INTERIOR

Bureau of Land Management

[CA-169-1220-AL]

Notice of Public Meeting, Carrizo Plain National Monument Advisory Committee and Carrizo Resource Management Plan Scoping Meeting

SUMMARY: In accordance with Federal Land Policy and Management Act of 1976 (FLPMA), the Federal Advisory Committee Act of 1972 (FACA), the National Environmental Policy Act of 1969 (NEPA), and the Code of Federal Regulations (40 CFR 1501.7, 43 CFR 1610.2), the United States Department of the Interior, Bureau of Land Management (BLM), Carrizo Plain National Monument Advisory Committee will meet as indicated below.

DATES: The meeting will be held on Saturday, May 5, 2007, at the California Valley Community Services District building on Soda Lake Road. The center is located approximately 3 miles South of Hwy. 58 adjacent to the California Valley Fire Station 42. The meeting will begin at 10 a.m. and finish at 5 p.m. The public scoping period for the planning effort will be from 10 a.m. to 12 p.m. Lunch will be available for $8.00.

SUPPLEMENTARY INFORMATION: The nine-member Carrizo Plain National Monument Advisory Committee advises the Secretary of the Interior, through the Bureau of Land Management, on a variety of public land issues associated the public land management in the Carrizo Plain National Monument in Central California. This meeting will serve as an opportunity for the public to scope issues for the formulation of the resource management plan. This meeting is open to the public. Individuals who plan to attend and need special assistance such as sign language interpretation or other reasonable accommodations should contact BLM as indicated below.

FOR FURTHER INFORMATION CONTACT: Bureau of Land Management, Attention: Johna Hurl, Monument Manager, 3801 Pegasus Drive, Bakersfield, CA 93308. Phone at (661) 391-6093 or e-mail: jhurl@blm.gov.

Dated: April 10, 2007.
Johna Hurl,
Manager, Carrizo Plain National Monument.

[FR Doc. E7-7112 Filed 4-13-07; 8:45 am]

BILLING CODE 4310-40-P